DEPARTMENT OF ENERGY

Federal Energy Regulatory Commission

Combined Notice of Filings #1

Take notice that the Commission received the following electric rate filings:

Docket Numbers: ER10-1982-008; ER10-1253-007; ER10-1246-007; ER10-1252-007.

Applicants: Consolidated Edison Company of New York, Inc., Orange and Rockland Utilities, Inc., Consolidated Edison Energy, Inc., Consolidated Edison Solutions, Inc.

Description: Supplement to December 18, 2013 Triennial Market Power Analysis in Northeast region of the Con Edison Companies.

Filed Date: 4/30/14.

Accession Number: 20140430-5590.

Comments Due: 5 p.m. E.T. 5/21/14.

Docket Numbers: ER12-1436-006; ER14-152-001; ER14-153-001; ER14-154-001; ER13-1793-003; ER10-3300-006; ER13-2386-001; ER10-3099-007; ER12-1260-005; ER10-2329-003.

Applicants: Eagle Point Power Generation LLC, Elgin Energy Center, LLC, Gibson City Energy Center, LLC, Grand Tower Energy Center, LLC, Hazle Spindle, LLC, La Paloma Generating Company, LLC, Lakeswind Power Partners, LLC, RC Cape May Holdings, LLC, Stephentown Spindle, LLC, Vineland Energy LLC.

Description: Supplement to February 27, 2014 Notice of Change in Status of the Rockland Sellers.

Filed Date: 3/28/14.

Accession Number: 20140328-5209.

Comments Due: 5 p.m. E.T. 5/22/14.

Docket Numbers: ER14-727-001.

Applicants: ISO New England Inc.

Description: Demand Response Baseline Changes Compliance Filing to be effective N/A.

Filed Date: 5/1/14.

Accession Number: 20140501-5128.

Comments Due: 5 p.m. E.T. 5/22/14.

Docket Numbers: ER14-1817-000.

Applicants: Midcontinent Independent System Operator, Inc.

Description: 2014-04-30_ER14-000 RSG Exemptions during emergencies to be effective 5/1/2014.

Filed Date: 4/30/14.

Accession Number: 20140430-5469.

Comments Due: 5 p.m. E.T. 5/21/14.

Docket Numbers: ER14-1818-000.

Applicants: Edison Mission Marketing & Trading, LLC.

Description: Notice of Succession and Revisions to Market-Based Rate Tariff to be effective 5/1/2014.

Filed Date: 4/30/14.

Accession Number: 20140430-5471.

Comments Due: 5 p.m. E.T. 5/21/14.

Docket Numbers: ER14-1819-000.

Applicants: Southwestern Public Service Company.

Description: 4-30-14_RS114-117 Consent Agrmts to be effective 5/1/2014.

Filed Date: 4/30/14.

Accession Number: 20140430-5478.

Comments Due: 5 p.m. E.T. 5/21/14.

Docket Numbers: ER14-1820-000.

Applicants: NRG Power Marketing LLC.

Description: Revised Market-Based Rate Tariff to be effective 5/1/2014.

Filed Date: 4/30/14.

Accession Number: 20140430-5484.

Comments Due: 5 p.m. E.T. 5/21/14.

Docket Numbers: ER14-1821-000.

Applicants: GenOn Energy Management, LLC.

Description: Revised Market-Based Rate Tariff to be effective 5/1/2014.

Filed Date: 4/30/14.

Accession Number: 20140430-5485.

Comments Due: 5 p.m. E.T. 5/21/14.

Docket Numbers: ER14-1822-000.

Applicants: New York Independent System Operator, Inc.

Description: Unexecuted service agreement between NYISO and TCR to be effective 5/1/2014.

Filed Date: 4/30/14.

Accession Number: 20140430-5488.

Comments Due: 5 p.m. E.T. 5/21/14.

Docket Numbers: ER14-1823-000.

Applicants: Energy Plus Holdings LLC.

Description: Revised Market-Based Rate Tariff to be effective 5/1/2014.

Filed Date: 4/30/14.

Accession Number: 20140430-5491.

Comments Due: 5 p.m. E.T. 5/21/14.

Docket Numbers: ER14-1824-000.

Applicants: CP Power Sales Twenty, L.L.C.

Description: Revised Market-Based Rate Tariff to be effective 5/1/2014.

Filed Date: 4/30/14.

Accession Number: 20140430-5495.

Comments Due: 5 p.m. E.T. 5/21/14.

Docket Numbers: ER14-1825-000.

Applicants: Hardwood Energy, LLC.

Description: Cancellation of MBR Tariff to be effective 5/1/2014.

Filed Date: 4/30/14.

Accession Number: 20140430-5497.

Comments Due: 5 p.m. E.T. 5/21/14.

Docket Numbers: ER14-1826-000.

Applicants: California Power Exchange Corporation.

Description: Rate Filing for Rate Period 25 to be effective 7/1/2014.

Filed Date: 4/30/14.

Accession Number: 20140430-5530.

Comments Due: 5 p.m. E.T. 5/21/14.

Docket Numbers: ER14-1827-000.

Applicants: RRI Energy Services, LLC.

Description: Revised Market-Based Rate Tariff to be effective 5/1/2014.

Filed Date: 4/30/14.

Accession Number: 20140430-5536.

Comments Due: 5 p.m. E.T. 5/21/14.

Docket Numbers: ER14-1828-000.

Applicants: CP Power Sales Nineteen, L.L.C.

Description: Revised Market-Based Rate Tariff to be effective 5/1/2014.

Filed Date: 4/30/14.

Accession Number: 20140430-5539.

Comments Due: 5 p.m. E.T. 5/21/14.

Docket Numbers: ER14-1829-000.

Applicants: CP Power Sales Seventeen, L.L.C.

Description: Revised Market-Based Rate Tariff to be effective 5/1/2014.

Filed Date: 4/30/14.

Accession Number: 20140430-5540.

Comments Due: 5 p.m. E.T. 5/21/14.

Docket Numbers: ER14-1830-000.

Applicants: Green Mountain Energy Company.

Description: Revised Market-Based Rate Tariff to be effective 5/1/2014.

Filed Date: 4/30/14.

Accession Number: 20140430-5541.

Comments Due: 5 p.m. E.T. 5/21/14.

Docket Numbers: ER14-1831-000.

Applicants: Virginia Electric and Power Company, PJM Interconnection, L.L.C.

Description: Dominion submits revisions to PJM OATT Att H-16A re ADIT to be effective 5/1/2014.

Filed Date: 4/30/14.

Accession Number: 20140430-5545.

Comments Due: 5 p.m. E.T. 5/21/14.

Docket Numbers: ER14-1832-000.

Applicants: Duke Energy Florida, Inc.

Description: Duke Energy Florida, Inc. submits tariff filing per 35.13(a)(2)(iii): DEF IA Annual Cost Factor Update to be effective 5/1/2014.

Filed Date: 5/1/14.

Accession Number: 20140501-5074.

Comments Due: 5 p.m. E.T. 5/22/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2014.
Kimberly D. Bose,
Secretary.

[FR Doc. 2014-10583 Filed 5-7-14; 8:45 am]

BILLING CODE 6717-01-P